DEPARTMENT OF TRANSPORTATION

Pipeline and Hazardous Materials Safety Administration

[Docket No. RSPA-04-18757; Notice 2]

Pipeline Safety: Grant of Waiver; Columbia Gas Transmission

AGENCY: Pipeline and Hazardous Materials Safety Administration (PHMSA), DOT.

ACTION: Notice; grant of waiver.

SUMMARY: The Office of Pipeline Safety (OPS) is granting Columbia Gas Transmission's (Columbia) petition for a waiver of the pipeline safety regulations to install fiberglass reinforced polyethylene pipe in its high pressure natural gas storage field operations.

SUPPLEMENTARY INFORMATION:

Background

Columbia has petitioned OPS for a waiver from compliance with 49 CFR 192.53(c), 192.121, 192.123, and 192.619(a) to allow for installation and operation of fiberglass reinforced polyethylene pipe in its high pressure natural gas storage field operations. Columbia is proposing to install approximately 4,200 feet of 4-inch Fiber® spooled, non-metallic composite line pipe in its Dundee Storage Field.

On September 8, 2004, OPS published a notice in the Federal Register requesting public comment on Columbia's waiver request (69 FR 054345). The cities of Charlottesville and Richmond, Virginia (jointly referred to as “Cities”) submitted several comments in response to the Notice.

As Columbia customers, the Cities are concerned that granting this waiver may diminish Columbia's ability to provide reliable firm storage and natural gas transportation service. The Cities contends that if Columbia's ability is diminished, then, the Cities reliability to deliver natural gas to its customers may be diminished as well.

The following are the Cities comments regarding Columbia's petition for waiver:

(1) Fiberspar's® fiberglass reinforced polyethylene plastic pipe has no track record thus it is difficult to determine whether or not the proposed material is reliable over the long term.

This waiver requires Columbia to schedule five inspections to perform both non-destructive and destructive testing on this pipe material after installation. The inspections and tests will be performed 1, 2.5, 5, 7.5, and 10 years after installation. This waiver requires Columbia to remove a minimum ten foot pipe segment for inspection during each inspection; non-destructive testing will focus on the composition and degradation of the pipe material and destructive testing will be a hydrotest to burst pressure.

(2) The Cities commented that the Fiber® pipe material has not been tested by an independent research authority.

Columbia and Fibers® have been engaged in meetings and discussion regarding the research involved in the development of this pipe material. OPS is aware that Fiber® has not had this pipe material tested and rated before the American Society for Testing and Materials (ASTM)—an independent research authority recognized by OPS—OPS also believes that vendors like Fiberspar's® should submit their product(s) for proper testing and development and meet ASTM standards. For this reason and as a condition of this waiver, OPS will limit Columbia's use of this pipe material to five years unless Fiber®rdquo; submits this pipe material to ASTM for testing and have this material listed as an acceptable material meeting ASTM requirement for new materials and have a listing with the plastics pipe institute (PPI) within five years of the pipe's original installation. If Fiber®rdquo; fails to submit this pipe material to ASTM for testing, Columbia will be required to discontinue use of this pipe material at the end of the 5th year following installation and conform to the regulatory requirements of 49 CFR §§ 192.53(c), 192.121, 192.123, and 192.619(a). If it is determined that the commodity transported in this pipeline is not compatible with, and proves detrimental to, this pipe material, OPS reserves the right, as a condition of this waiver, to curtail or discontinue the use of this pipe material.

(3)The Cities commented that it will be unable to deliver firm storage service to its customers if Columbia determines this pipe material to be unreliable.

Columbia's responsibility to provide reliable gas service to its customers is not diminished by this waiver or its use of this pipe material. By issuing this waiver, OPS believes Columbia will continue to provide reliable service to its customers. If it is determined that the commodity transported in this pipeline is not compatible with, and proves detrimental to, this pipe material, OPS reserves the right, as a condition of this waiver, to curtail or discontinue the use of this pipe material.

(4) The Cities commented that the 0.67 service (design) factor contained in the design formula results in a lower safety factor than the 0.32 design factor contained in the design formula under § 192.121.

Columbia seeks approval to use the following design formula from API 15HR:

Pr = Ss × Sf × (Ri²−R0²) / (R0² + Ri²)

Where:

Pr = Fiber® Line Pipe Standard Pressure Rating, psig

Ss = 95 percent Lower Confidence Limit (LCL) of the Long-Term Hydrostatic Strength (LTHS) @ 20 years per ASTM D 2992, Procedure B, psig

Sf = 0.67 service (design) factor per API 15 HR.

R0 = radius of the pipe at the outside of the minimum reinforced wall thickness, inches

Ri = radius of the pipe at the inside of the minimum reinforced wall thickness, inches

Fiberspar® uses a service factor in its calculation of the Standard Pressure Rating, Pr, which is 25% less than the maximum service factor required by API 15HR. API 15HR requires a service factor of 0.67. By using a service factor which is 25% less, the result is an increase in the long-term reliability of this pipe material.

(5) The Cities commented that Columbia's choice to use plastic pipe increases the risk of pipe damage by a backhoe.

This waiver does not waive Columbia's responsibility to meet the excavation requirements of the Federal pipeline safety standards. Columbia is required to have excavation procedures in their Operations and Maintenance manual and their personnel are expected to be familiar with and follow those procedures whenever construction near the pipeline is being performed.

(6) The Cities commented that Columbia did not specify how they intend to comply with the requirements of one-call notification.

Columbia is required to have a damage prevention program in place and documented in their Operations and Maintenance manual. Columbia's personnel are expected to be familiar with and follow that program whenever events required them to do so. The waiver does not relieve Columbia from its responsibility to meet the one-call notification requirements of the Federal pipeline safety standards.

Grant of Waiver

Based on the above information, OPS hereby grants Columbia's request for waiver from the requirements of 49 CFR §§ 192.53(c), 192.121, 192.123, and 192.619(a). The waiver allows Columbia to install and operate approximately 4,200 feet of four inch Fiberspar® fiberglass reinforced polyethylene plastic pipe in its Dundee Storage Field located in Schulyer County, New York.

As a condition of the grant of this waiver, Columbia must—

• Apply this waiver only to piping within its Dundee Storage Field;

• Apply this waiver in non High Consequence Area(s);

• Apply this waiver in Class 1 location(s) only;

• Develop qualifications on joining methods through Fiberspar® installation training courses and field training; qualifications and joining methods must be available to OPS Eastern Region upon request;

• Apply this waiver to five storage wells and six lines as stated in the waiver request;

• Perform initial pipeline installation with qualified Fiberspar® personnel present and overseeing the installation; notify OPS Eastern Region of the date, time, and location of initial installation and provide opportunity for OPS Eastern Region to witness installation;

• Schedule five inspections for 1, 2.5, 5, 7.5, and 10 years after installation; remove a minimum ten foot pipe segment for inspection and perform both non-destructive and destructive testing on the pipe material. Non-destructive testing shall focus on the composition and degradation of the fiberglass reinforced polyethylene plastic pipe material and the destructive testing shall be a hydrotest to burst pressure. The results of the inspections and tests must be available to OPS Eastern Region upon request; and

• Submit Fiberspar® fiberglass reinforced polyethylene plastic pipe to ASTM for testing. If Fiberspar® fails to submit this pipe material to ASTM for testing and have this material listed as an acceptable material meeting ASTM requirement for new materials and have a listing with the plastics pipe institute (PPI) within five years of the pipe's original installation, Columbia must discontinue use of this pipe material at the end of the 5th year following initial installation and comply with the regulatory requirements of 49 CFR §§ 192.53(c), 192.121, 192.123, and 192.619(a). If it is determined that the commodity transported in this pipeline is not compatible with, and proves detrimental to, this pipe material, OPS reserves the right, as a condition of this waiver, to curtail or discontinue the use of this pipe material.

If Columbia does not comply with any of these requirements, or if circumstances indicate that the waiver compromises the safety of the pipeline, people or property, OPS reserves the right to terminate this waiver.

Authority: 49 U.S.C. 60118(c) and 49 CFR 1.53.

Issued in Washington, DC, on February 25, 2005.
Theodore L. Willke,
Deputy Associate Administrator for Pipeline Safety.

[FR Doc. 05-4121 Filed 3-2-05; 8:45 am]

BILLING CODE 4910-60-P